DEPARTMENT OF ENERGY

Notice of Request for Information (RFI) on Efficient and Flexible Building Loads

AGENCY: Building Technologies Office, Office of Energy Efficiency and Renewable Energy, Department of Energy (DOE).

ACTION: Request for information (RFI).

SUMMARY: The U.S. Department of Energy (DOE) invites public comment on its Request for Information (RFI) number regarding Efficient and Flexible Building Loads. Through this RFI, the U.S. Department of Energy (DOE) Building Technologies Office (BTO) seeks input from industry to better understand where flexible building loads research goals can be refined to reflect market needs and inform related R&D activities.

DATES: Responses to the RFI must be received by 5:00 p.m. (ET) on March 1, 2019.

ADDRESSES: Responses to this RFI must be submitted electronically to RFI_GEB2019@ee.doe.gov. Responses must be provided as attachments to an email. It is recommended that attachments with file sizes exceeding 25MB be compressed (i.e., zipped) to ensure message delivery. Responses must be provided as a Microsoft Word (.docx) attachment to the email, and no more than five (5) pages in length per category of questions, 12 point font, 1 inch margins. Only electronic responses will be accepted.

Please identify your answers by responding to a specific question or topic if applicable. Respondents may answer as many or as few questions as they wish.

DOE will not respond to individual submissions or publish publicly a compendium of responses. A response to this RFI will not be viewed as a binding commitment to develop or pursue the project or ideas discussed.

Respondents are requested to provide the following information at the start of their response to this RFI:

• Company/institution name;

• Company/institution contact;

• Contact's address, phone number, and email address.

FOR FURTHER INFORMATION CONTACT: Question may be addressed to RFI_GEB2019@ee.doe.gov or to Monica Neukomm, (202) 845-3168. Further instructions can be found in the RFI document posted on EERE Exchange.

SUPPLEMENTARY INFORMATION: The purpose of this RFI is to solicit feedback from industry, academia, research laboratories, government agencies, building owners and operators, builders, utilities, and other stakeholders on key issues related to the energy flexibility that building technologies can provide. This information will be used by BTO for strategic planning of the broader grid-interactive efficient building technologies R&D portfolio. This is solely a request for information and not a Funding Opportunity Announcement (FOA). DOE is not accepting applications. The RFI is available at: https://eere-exchange.energy.gov/.

Confidential Business Information

Because information received in response to this RFI may be used to structure future programs and/or otherwise be made available to the public, respondents are strongly advised to NOT include any information in their responses that might be considered business sensitive, proprietary, or otherwise confidential. If, however, a respondent chooses to submit business sensitive, proprietary, or otherwise confidential information, it must be clearly and conspicuously marked as such in the response as detailed in the RFI [DE-FOA-0002070] at: https://eere-exchange.energy.gov/.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person that would result from public disclosure; (6) when such information might lose its confidential character due to the passage of time; and (7) why disclosure of the information would be contrary to the public interest.

Signed in Washington, DC, on January 30, 2019.
David Nemtzow,
Director of Building Technologies Office.

[FR Doc. 2019-02804 Filed 2-19-19; 8:45 am]

BILLING CODE 6450-01-P